DEPARTMENT OF HEALTH AND HUMAN SERVICES

Centers for Medicare & Medicaid Services

[Document Identifier: CMS-R-245]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of the currently approved collection; Title of Information Collection: Medicare and Medicaid Programs OASIS Collection Requirements as Part of the Conditions of Participation for Home Health Agencies and Supporting Regulations in 42 CFR 484.55, 484.205, 484.245, 484.250; Form No.: CMS-R-245 (OMB# 0938-0760) Use: The Outcome and Assessment Information Set (OASIS) is a requirement for one of the Conditions of Participation (CoPs) that Home Health Agencies (HHAs) must meet in order to participate in the Medicare program. Specifically, the CoP at § 484.55 requires that each patient receive from an HHA a patient-specific, comprehensive assessment that identifies a patient's continuing need for home care and meets the patient's medical, nursing, rehabilitative, social and discharge planning needs. In addition, the regulation requires that as part of the comprehensive assessment, HHAs use a standard core assessment data set, the OASIS, to evaluate, non-maternity patients. The data collected using OASIS is used for three main purposes: assessing and improving the quality of care provided by an HHA, submitting and paying claims for Medicare home health services, and surveying the HHAs in accordance with Section 1891 of the Social Security Act (the Act).

We have made several modifications to this information collection without increasing the burden. The modifications include but are not limited to the following items. In order for the OASIS to have the information necessary to allow the grouper to price-out the claim, we propose to make the following changes to the OASIS to capture whether an episode is an early or later episode. In addition, for the purposes of payment, we propose to make changes to the OASIS in order to enable agencies to report secondary case mix diagnosis codes. The proposed changes clarify how to appropriately fill out OASIS items M0230 and M0240, using ICD-9-CM sequencing requirements if multiple coding is indicated for any diagnosis. The proposed OASIS revisions also include incorporating previously revised instructions regarding diagnosis coding in items M0190, M0210, and M0230/M0240/M0246 (previously M0245). The burden associated with these proposed changes includes possible training of staff, the time and effort associated with downloading a new form and replacing previously pre-printed versions of the OASIS, and utilizing updated vendor software. However, CMS will be removing or modifying existing questions in the OASIS data set to accommodate the requirements referenced above. Therefore, CMS believes the burden increase associated with these changes is negated by the removal or modification of several current data items. Frequency: Recordkeeping and Reporting—upon patient assessment; Affected Public: Business or other for-profit and Not-for-profit institutions; Number of Respondents: 8,277; Total Annual Responses: 10,105,827; Total Annual Hours: 11,977,601.

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

Written comments and recommendations for the proposed information collections must be mailed or faxed within 30 days of this notice directly to the OMB desk officer: OMB Human Resources and Housing Branch, Attention: Carolyn Lovett, New Executive Office Building, Room 10235, Washington, DC 20503, Fax Number: (202) 395-6974.

Dated: April 27, 2007.
Michelle Shortt,
Director, Regulations Development Group, Office of Strategic Operations and Regulatory Affairs.

[FR Doc. E7-8424 Filed 5-3-07; 8:45 am]

BILLING CODE 4120-01-P